DEPARTMENT OF JUSTICE

Notice of Lodging of Consent Decree Under the Clean Water Act

Notice is hereby given that on June 6, 2008, a proposed Consent Decree (“CSI Consent Decree”) in United States and State of Colorado v. Colorado Structures, Inc., Civil Action No.08-CV-01217-MSK-KMT, was lodged with the United States District Court for the District of Colorado.

In this action, the United States and the State of Colorado filed a Complaint for injunctive relief and civil penalties pursuant to the Clean Water Act (CWA) and the Colorado Water Quality Control Act (CWQCA) against Colorado Structures, Inc. (CSI) for violations at 16 construction sites in Colorado, California, Nevada, and South Dakota, including violations of applicable permits and the failure to obtain a permit. Specifically, the United States and the State of Colorado filed a Complaint pursuant to CWA, 33 U.S.C. 1319(b) and (d), and CWQCA, §§ 25-8-607 and -608, C.R.S., against CSI for: (1) Violations of the conditions of several permits issued pursuant to 33 U.S.C. 1342 and 25-8-501 to -503, C.R.S., for the discharge of pollutants from storm water from construction sites in violation of 33 U.S.C. 1311 and 25-8-501 to -503, C.R.S; (2) the discharge of pollutants from storm water from construction sites without a permit in violation of 33 U.S.C. 1311 and § 25-8-501(1), C.R.S.; and (3) failing to provide information in violation of 33 U.S.C. § 1318 and § 25-8-304(1), C.R.S.

The CSI Consent Decree would resolve the claims against CSI as described in the Complaint. The ultimate entry by the District Court of Colorado of the CSI Consent Decree would end this litigation.

The Department of Justice will receive for a period of thirty (30) days from the date of this publication comments relating to the CSI Consent Decree. Comments should be addressed to the Assistant Attorney General, Environment and Natural Resources Division, and either e-mailed to the pubcomment-ees.enrd@usdoj.gov or mailed to P.O. Box 7611, U.S. Department of Justice, Washington, DC 20044-7611, and should refer to Civil Action No.08-CV-01217-MSK-KMT, D.J. Ref. No. 90-5-1-1-08391.

The CSI Consent Decree may be examined at the Office of the United States Attorney, 11225 Seventeenth Street, Suite 700 Seventeenth Street Plaza, Denver, Colorado 80202. It also may be examined at the offices of U.S. EPA Region 8, 1595 Wynkoop Street, Denver, Colorado 80202. During the public comment period, the CSI Consent Decree may also be examined on the following Department of Justice Web site, to http://www.usdoj.gov/enrd/Consent_Decrees.html.

A copy of the CSI Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.75 (25 cents per page reproduction cost) payable to the U.S. Treasury or, if by e-mail or fax, forward a check in that amount to the Consent Decree Library at the stated address.

Robert Brook,
Assistant Section Chief, Environmental Enforcement Section, Environment and Natural Resources Division.

[FR Doc. E8-13301 Filed 6-12-08; 8:45 am]

BILLING CODE 4410-15-P